DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of 9 individuals and 8 entities whose property and interests in property have been blocked pursuant to the Foreign Narcotics Kingpin Designation Act (“Kingpin Act”) (21 U.S.C. 1901-1908, 8 U.S.C. 1182).

DATES: The designation by the Director of OFAC of the 9 individuals and 8 entities identified in this notice pursuant to section 805(b) of the Kingpin Act is effective on January 26, 2011.

FOR FURTHER INFORMATION CONTACT:

Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On January 26, 2011, the Director of OFAC designated 9 individuals and 8 entities whose property and interests in property are blocked pursuant to section 805(b) of the Foreign Narcotics Kingpin Designation Act.

The list of additional designees is as follows:

1. JOUMAA, Ayman Saied (a.k.a. JOMAA KHARFAN, Aiman Said; a.k.a. JOMAA, Aymen; a.k.a. JOMAA, Aymen Saeid; a.k.a. JOUMAA, Aiman; a.k.a. JOUMAA, Eiman; a.k.a. JOUMHA, Aymen), Lebanon; Maicao, Colombia; Medellin, Colombia; DOB 21 Jun 1964; alt. DOB 15 Jun 1976; POB Al Karouan, Lebanon; alt. POB Barranquilla, Colombia; citizen Lebanon; alt. citizen Colombia; nationality Lebanon; alt. nationality Colombia; Cedula No. 84075050 (Colombia); Passport RL 0235074 (Lebanon); alt. Passport P013331 (Colombia) (individual) [SDNTK]

2. JOUMAA, Akram Saied (a.k.a. JOMAA YOUSSEF, Akram Said), Lebanon; DOB 07 Jun 1956; POB Al Karouan, Lebanon; nationality Lebanon; Passport 11869936 (Venezuela); RUC # 3-NT-1-6255 (Panama) (individual) [SDNTK]

3. JOUMAA, Anwar Saied (a.k.a. JOMAA, Anmar; a.k.a. JOMAA, Anwar Said), Lebanon; POB Al Karouan, Lebanon; nationality Lebanon; Cedula No. 84072009 (Colombia); Passport 392065 (Panama) (individual) [SDNTK]

4. JOUMAA, Mohamad Said (a.k.a. JOMAA, Mohamed Said), Lebanon; DOB 06 Apr 1977; POB Lala, Lebanon; Cedula No. 84076630 (Colombia) (individual) [SDNTK]

5. YOUSSEF, Ismael Mohammed (a.k.a. YOUSSEF ABDALLAH, Ismael; a.k.a. YOUSSEF, Ismail Mohammad), Lebanon; DOB 12 Sep 1979; POB Santa Marta, Colombia; alt. POB Lebanon; citizen Colombia; nationality Colombia; alt. nationality Lebanon; Cedula No. 17900973 (Colombia); Passport AF038564 (Colombia); alt. Passport AK037837 (Colombia) (individual) [SDNTK]

6. YOUSSEF, Ziad Mohamad, Lebanon; DOB 22 Sep 1976; POB West Bekaa, Baaloul, Lebanon; citizen Lebanon; nationality Lebanon (individual) [SDNTK]

7. AYASH, Hassan (a.k.a. AYACHE, Mahmoud Hassan), Beirut, Lebanon; DOB 1943; POB Miziara, Lebanon; nationality Lebanon (individual) [SDNTK]

8. AYACHE, Hassan Mahmoud (a.k.a. AYACH, Hassan; a.k.a. AYACHE, Hassan Mohamad; a.k.a. AYASH, Hassan; a.k.a. AYASH, Hassan Muhammad; a.k.a. AYASH, Hassane), Beirut, Lebanon; DOB 01 May 1963; POB Beirut, Lebanon; citizen Lebanon; nationality Lebanon; Passport RL0361632 (Lebanon) (individual) [SDNTK]

9. KHAROUBI, Jamal Mohamad, Lebanon; DOB 01 Nov 1976; POB Saida, Lebanon; citizen Lebanon; Passport RL0068313 (Lebanon) (individual) [SDNTK]

10. JOUMAA MONEY LAUNDERING ORGANIZATION/DRUG TRAFFICKING ORGANIZATION (a.k.a. “JOUMAA MLO/DTO”); Beirut, Lebanon; Maicao, Colombia; (ENTITY) [SDNTK]

11. HASSAN AYASH EXCHANGE COMPANY (a.k.a. HASSAN AYAS PARTNER EXCHANGE CO; a.k.a. AYASH XCHANGE CO.; a.k.a. AYASH EXCHANGE COMPANY SARL; a.k.a. MAKDESSI SAYRAFI COMPANY; a.k.a. HASSANE AYASH EXCHANGE CO. SARL; a.k.a. HASSAN AYACH EXCHANGE); Madame Curie St., Hamra St., Beirut, Lebanon; (ENTITY) [SDNTK]

12. ELLISSA EXCHANGE COMPANY (a.k.a. ELESSA EXCHANGE; a.k.a. ELISSA EXCHANGE); Sarafand, Lebanon; (ENTITY) [SDNTK]

13. PHENICIA SHIPPING OFFSHORE SARL, Beirut, Lebanon; (ENTITY) [SDNTK]

14. NEW LINE EXCHANGE TRUST CO., 2901 Omar and Khaled Richani Building, Beirut, Lebanon; 2901 Icaria, Ras Beirut, Lebanon; (ENTITY) [SDNTK]

15. CAESAR'S PARK HOTEL (a.k.a. CEASAR'S PARK HOTEL; a.k.a. CEASERS PARK HOTEL); Madame Curie St., Beirut, Lebanon; (ENTITY) [SDNTK]

16. GOLDI ELECTRONICS S.A., Colon, Panama; RUC # 1476422-1-642962 (Panama); (ENTITY) [SDNTK]

17. ZONA LIBRE INTERNATIONAL MARKET S.A., Colon, Panama; RUC # 66161-20-363386 (Panama); (ENTITY) [SDNTK]

Dated: January 26, 2011.
Adam J. Szubin,
Director, Office of Foreign Assets Control.

[FR Doc. 2011-2181 Filed 2-1-11; 8:45 am]

BILLING CODE 4810-AL-P